DEPARTMENT OF COMMERCE

International Trade Administration

[A-570-893]

Certain Frozen Warmwater Shrimp from the People's Republic of China: Notice of Postponement of Time Limits for New Shipper Antidumping Duty Reviews in Conjunction with Administrative Review

AGENCY: Import Administration, International Trade Administration, Department of Commerce.

SUMMARY: On April 14, 2006, in accordance with 19 C.F.R. 351.214(j)(3), Hai Li Aquatic Co., Ltd. Zhao An, Fujian (“Hai Li”) agreed to waive the time limits in section 351.214(i) of the Department of Commerce's (“the Department”) regulations so that the Department may conduct the new shipper review of certain frozen warmwater shrimp from the People's Republic of China (“PRC”), for the period July 16, 2004, through January 31, 2006, concurrently with the administrative review for the same period. Therefore, pursuant to Hai Li's request, and in accordance with the Department's regulations, we will conduct the administrative and new shipper review concurrently.

EFFECTIVE DATE: May 5, 2006.

FOR FURTHER INFORMATION CONTACT: Scot Fullerton or Michael Quigley, AD/CVD Operations, Import Administration, International Trade Administration, U.S. Department of Commerce, 14th Street and Constitution Avenue, NW., Washington, DC 20230; telephone: (202) 482-1386 or (202) 482-4047, respectively.

SUPPLEMENTARY INFORMATION:

Background

On March 1, 2006, the Ad Hoc Shrimp Trade Action Committee (“Petitioners”), requested an administrative review of several companies.¹ On April 7, 2006, the Department published in the Federal Register a notice announcing the initiation of the 2004-2006 administrative review of the antidumping duty order on frozen warmwater shrimp from the People's Republic of China (“PRC”) and from the Socialist Republic of Vietnam (“Vietnam”). See Notice of Initiation of Antidumping and Countervailing Duty Administrative Reviews, 71 FR 17813 (April 7, 2006). The Department received a request from Hai Li, on April 14, 2006, pursuant to 19 CFR 351.214(j)(3), to (i) waive the time limits for a new shipper review of the antidumping duty order on certain frozen warmwater shrimp from the PRC, and (ii) allow the Department to conduct Hai Li's new shipper review proceeding concurrent with the separate administrative review that the Department initiated on April 7, 2006. See letter from Hai Li requesting alignment with administrative review (April 14, 2006).

¹ The Department also received several administrative review requests from certain PRC exporters, as well.

Postponement of New Shipper Review

Pursuant to Hai Li's request, and in accordance with section 351.214(j)(3) of the Department's regulations, we will conduct this new shipper review concurrently with the July 16, 2004, through January 31, 2006, administrative review of frozen warmwater shrimp from the PRC. Therefore, the preliminary results of the antidumping new shipper review, as well as the administrative review, will be due 245 days from February 28, 2006, the last day of the anniversary month of the order. See section 751 (a)(3)(A) of the Act and section 351.213(h) of the Department's regulations. Thus, the deadline for the preliminary results of this new shipper review, as well as the administrative review, is October 31, 2006.

This notice is published in accordance with section 751(a)(2) of the Tariff Act of 1930, as amended, and 19 CFR 351.214(j)(3).

Dated: April 28, 2006.
Stephen J. Claeys,
Deputy Assistant Secretary for Import Administration.

[FR Doc. E6-6877 Filed 5-4-06; 8:45 am]

BILLING CODE 3510-DS-S